COUNCIL ON ENVIRONMENTAL QUALITY

40 CFR Parts 1500, 1501, 1502, 1503, 1504, 1505, 1506, 1507, and 1508

[CEQ-2025-0002]

RIN 0331-AA10

Removal of National Environmental Policy Act Implementing Regulations

Correction

In rule document 2025-03014, appearing on pages 10610 through 10616 in the issue of Tuesday, February 25, 2025, make the following correction:

On page 10611, in the first column, in the eleventh line from the bottom, “April 11, 2025” is corrected to read “March 27, 2025”.

[FR Doc. C1-2025-03014 Filed 3-4-25; 8:45 am]

BILLING CODE 0099-10-P